DEPARTMENT OF TRANSPORTATION

Federal Aviation Administration

Notice of Intent To Rule on Request To Release Airport Property at the Colorado Springs Airport, Colorado Springs, Colorado

AGENCY: Federal Aviation Administration (FAA), DOT.

ACTION: Notice of request to release airport property.

SUMMARY: The FAA proposes to rule and invite public comment on the release of land at the Colorado Springs Airport under the provisions of Section 125 of the Wendell H. Ford Aviation Investment Reform Act for the 21st Century (AIR 21), now 49 U.S.C. 47107(h)(2).

DATES: Comments must be received on or before July 8, 2015.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Troy Stover, Colorado Springs Airport, Colorado Springs, Colorado, at the following address: Mr. Troy Stover, Colorado Springs Airport, 7770 Milton E. Proby Parkway, Suite 50, Colorado Springs, Colorado 80916.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the Colorado Springs Airport under the provisions of the AIR 21 (49 U.S.C. 47107(h)(2)).

On June 2, 2015, the FAA determined that the request to release property at the Colorado Springs Airport submitted by the Colorado Springs Airport meets the procedural requirements of the Federal Aviation Administration.

The following is a brief overview of the request:

The Colorado Springs Airport is proposing the release from the terms, conditions, reservations, and restrictions on approximately 9.5 acres of federally obligated land at the Colorado Springs Airport. The proposed release would allow for improvements to be made to the Marksheffel Road corridor adjacent to the east side of the airport. Marksheffel Road is currently a two-lane rural arterial road with unimproved shoulders and roadside ditches. For the majority of the corridor there is an inadequate roadway cross-section, including areas with no shoulders and a lack of turn lanes, as well as inadequate roadway and intersection capacity, lack of pedestrian/bicycle facilities and sharp curves. These deficiencies contribute to roadway crash incidences along the Marksheffel Road corridor. The proposed airport property is undeveloped and is not needed for present or future aviation purposes. The property will be sold at fair market value and the sponsor will reinvest the revenue into the airport. The property release conveyance will include appropriate continuing right of flight and continuing restriction clauses that will prohibit any activity on the land that would interfere with or be a hazard to the flight of aircraft over the land or to and from the airport, or that interferes with air navigation and communications facilities serving the airport.

Any person may inspect, by appointment, the request in person at the FAA office listed above under FOR FURTHER INFORMATION CONTACT.

In addition, any person may, upon appointment and request, inspect the application, notice and other documents germane to the application in person at the Colorado Springs Airport.

Issued in Denver, Colorado, on June 2, 2015.
John P. Bauer,
Manager, Denver Airports District Office.

[FR Doc. 2015-13971 Filed 6-5-15; 8:45 am]

BILLING CODE 4910-13-P